DEPARTMENT OF STATE

[Public Notice: 11321]

Call for Expert Reviewers to Submit Comments on the Intergovernmental Panel on Climate Change (IPCC) Working Group III Contribution to the Sixth Assessment Report

The Department of State, in cooperation with the United States Global Change Research Program (USGCRP), requests expert review of the second-order draft of the IPCC Working Group III (WGIII) contribution to the Sixth Assessment Report cycle (AR6), including the first draft of the Summary for Policymakers (SPM).

The United Nations Environment Programme (UNEP) and the World Meteorological Organization (WMO) established the IPCC in 1988. As reflected in its governing documents, the role of the IPCC is to assess on a comprehensive, objective, open, and transparent basis the scientific, technical, and socio-economic information relevant to understanding the scientific basis of risk of human-induced climate change, its potential impacts, and options for adaptation and mitigation. IPCC reports should be neutral with respect to policy, although they may need to deal objectively with scientific, technical, and socio-economic factors relevant to the application of particular policies. The principles and procedures for the IPCC and its preparation of reports can be found at: https://www.ipcc.ch/site/assets/uploads/2018/09/ipcc-principles.pdf and https://www.ipcc.ch/site/assets/uploads/2018/09/ipcc-principles-appendix-a-final.pdf. In accordance with these procedures, IPCC documents undergo peer review by experts and governments. The purpose of these reviews is to ensure the reports present a comprehensive, objective, and balanced view of the subject matter they cover.

As part of the U.S. government review—starting January 18, 2021—experts wishing to contribute to the U.S. government review are encouraged to register via the USGCRP Review and Comment System (https://review.globalchange.gov). Instructions and the second-order draft will be available for download via the system. In accordance with IPCC policy, drafts of the report are provided for review purposes only and are not to be cited or distributed. All technical comments received that are relevant to the text under review will be forwarded to the IPCC authors for their consideration. To be considered for inclusion in the U.S. government submission, comments must be received by February 22, 2021.

Experts may choose to provide comments directly through the IPCC's expert review process, which occurs in parallel with the U.S. government review: https://apps.ipcc.ch/comments/ar6wg3/sod/register.php. To avoid duplication, experts are requested to submit comments via either the USGCRP or IPCC review websites, not both.

This notice will be published in the Federal Register.

Andrew A. Griffin,
Deputy Director, Office of Global Change, Department of State.

[FR Doc. 2021-00769 Filed 1-14-21; 8:45 am]

BILLING CODE 4710-09-P